DEPARTMENT OF DEFENSE

Department of the Army; Corps of Engineers

Notice of Amendment to the Notice of Intent To Prepare an Environmental Impact Statement (EIS) for the Millennium Bulk Terminals-Longview Shipping Facility Project

AGENCY: U.S. Army Corps of Engineers (Corps), DoD.

ACTION: Notice of Intent.

SUMMARY: Millennium Bulk Terminals-Longview, LLC (MBTL) is proposing to construct and operate a shipping facility near Longview, Washington. Department of the Army (DA) authorization is required pursuant to Section 10 of the Rivers and Harbors Act of 1899 and Section 404 of the Clean Water Act. The Corps has determined the proposed project may have significant individual and/or cumulative impacts on the human environment. The Corps is working in collaboration with the Cowlitz County Building and Planning Department (County) and the Washington State Department of Ecology (WDOE), to prepare separate federal and state Environmental Impact Statements (EISs) in accordance with the National Environmental Policy Act (NEPA) of 1969, as amended, and the Washington State Environmental Policy Act (SEPA). The Corps will serve as the lead federal agency for purposes of preparing a NEPA EIS, while the County and WDOE will serve as lead agencies for purposes of preparing a SEPA EIS. This Notice of Intent amends the notice published in the Federal Register on August 14, 2013 (78 FR 49484) by providing additional and updated information on a separate but synchronized environmental review and public scoping process.

DATES: The scoping period for the EIS began August 16, 2013. Written comments regarding the scope of the EIS, including the environmental analysis, range of alternatives, and potential mitigation actions should be submitted to the address below or by email to comments@millenniumbulkeiswa.gov by the closing date of the EIS scoping period, November 18, 2013.

ADDRESSES: Written comments regarding issues to be addressed in the NEPA EIS and requests to be included on the EIS notification mailing list should be submitted to Ms. Danette L. Guy, U.S. Army Corps of Engineers, Seattle District in care of MBTL EIS, 710 Second Avenue, Suite 550, Seattle, Washington, 98104.

FOR FURTHER INFORMATION CONTACT: Ms. Danette L. Guy by email at danette.l.guy@usace.army.mil, by regular mail at (see ADDRESSES), or by telephone at (206) 316-3048.

SUPPLEMENTARY INFORMATION:

Preparation of an EIS will support the Corps' eventual decision to either issue, issue with conditions, or deny a DA permit for the proposed action. As part of the NEPA process, the Corps will gather and analyze information to compare the potential environmental effects of possible project alternatives and a “no action” alternative in the EIS. An EIS will be prepared to assess the potential social, economic and environmental impacts of the project, and will be sufficient in scope to address Federal regulatory requirements and pertinent environmental and socio-economic issues.

The federal EIS process began with publication of a Notice of Intent on August 14, 2013. The EIS will be prepared in accordance with the Corps' procedures for implementing NEPA (33 CFR Part 325, Appendix B) and consistent with the Corps' policy to facilitate public understanding and review of agency proposals.

1. Proposed Action. The decision to issue, issue with conditions, or to deny a permit for various activities within the Corps' jurisdiction associated with the proposed construction and operation of a shipping facility by Millennium Bulk Terminals-Longview (MBTL). Currently, MBTL intends to ship coal from the facility.

2. Project Description. The project site is located in Cowlitz County, Washington, in an industrial area along the Columbia River just west of the city of Longview. MBTL proposes to construct the project on approximately 190 acres of a 536-acre site. The project includes construction of two piers in the Columbia River connected by a conveyor and access ramp. One pier would be up to 1,400 feet long and range from approximately 90 to 130 feet wide. The second pier would be approximately 900 feet long and 100 feet wide. Both would be connected to dry land by an access trestle approximately 800 feet long and range in width from up to 35 feet on the north end to up to 60 feet on the south end. The piers and trestle would support two ship loaders. MBTL proposes to dredge approximately 500,000 cubic yards of substrate from a 48-acre berthing area along the riverward side of the proposed piers. The dredged material would be disposed in the flow lane of the Columbia River. Periodic future maintenance dredging of the berthing area is also proposed. The shipping facility would include an open-air storage area approximately 75 acres in size serviced by an on-site balloon track system with parking capacity for eight trains. A system of rail-mounted reclaimers would convey coal from the storage area to the loading facility. The terminal would also include rail car unloading facilities, roadways, service buildings, storm water treatment facilities, and utility infrastructure. Constructing the portion of the terminal adjacent to the Columbia River would impact approximately 38 acres of waters of the U.S., including wetlands and drainage ditches. Any compensatory mitigation for impacts to waters of the U.S. would comply with the 2008 Compensatory Mitigation Rule for Losses of Aquatic Resources, 33 CFR parts 325 and 332; 73 FR 19594 (April 10, 2008).

3. Alternatives. The EIS will address an array of alternatives for a facility to receive material by rail and load ships for ocean transport. Alternatives may include, but will not be limited to, no action, alternative sites, alternative methods for on-site handling, and alternative facility designs. Mitigation measures could include, but would not be limited to, avoidance of sensitive areas, creation or enhancement of riverine nearshore habitats, and creation, restoration, or enhancement of wetlands.

4. Scope of Analysis. The scope of analysis identifies the federal action area under NEPA and, along with public input through the scoping process, informs the impacts (direct, indirect, and cumulative) analyzed in the EIS. In determining the scope of analysis for this EIS, the Corps must identify the scope of the activities under consideration and decide, for the purposes of NEPA, whether the agency has “control and responsibility” for activities outside of waters of the U.S. such that issuance of a permit would amount to approval of those activities (33 CFR Part 325 Appendix B, Par. 7(b)(1)). As a general rule, the Corps extends its scope of analysis beyond waters of the U.S. where the environmental consequences of upland elements of the project may be considered products of either the Corps permit action or the permit action in conjunction with other federal involvement (33 CFR Part 325 Appendix B, Para. 7(b)(2)).

For this EIS, the Corps' scope of analysis will include the entire MBTL project area and any offsite area that might be used for compensatory mitigation. The project area consists of the approximately 190-acre shipping terminal project site, the area to be dredged, the dredged material disposal site(s), and any other area in or adjacent to the Columbia River that would be affected by, and integral to, the proposed project.

5. Scoping Process. The scoping period began August 16, 2013, and will continue for 95 days until November 18, 2013. The Corps invites Federal agencies, state and local governments, Native American Tribes, and the public to participate in the scoping process by providing written comments and/or attending the public scoping meetings scheduled for the dates and locations listed below. Written comments will be considered during preparation of the Draft EIS. Comments postmarked or emailed after the closing date of the scoping period will be considered to the extent feasible.

The purpose of scoping is to assist the Corps in identifying pertinent issues, public concerns, and alternatives, and the depth to which they should be evaluated in the EIS, consistent with the Corps' scope of analysis for this project, as stated above. The Corps has prepared project information documents to familiarize agencies, tribes, interested organizations, and the public with the proposed project and potential environmental impacts. Copies of these documents will be available at the public meetings and on the Internet Web site developed for this EIS, www.millenniumbulkeiswa.gov, or may be requested from Corps project manager, Ms. Danette L. Guy (see contact information above). Corps representatives will also answer scoping-related questions and accept comments at public scoping meetings.

a. Public scoping meetings will be held to present an overview of the MBTL project and afford participants an opportunity to provide comments on the range of actions, alternatives, and potential impacts. Two of the scoping meetings announced in the August 14, 2013, Notice of Intent have been revised to reflect the Corps' public scoping meetings schedule. The Corps official public scoping meetings are as follows:

Cowlitz Expo Center, 1900 7th Avenue, Longview, Washington 98632 on Tuesday, September 17, 2013, from 1:00 p.m. to 4:00 p.m.

Clark County Fairgrounds, 17402 Northeast Delfel Road, Ridgefield, Washington 98642 on Wednesday, October 9, 2013, from 1:00 p.m. to 4:00 p.m.

In addition, public scoping meetings previously announced by the County and WDOE will be held as scheduled. The Corps will attend these meetings as well, and will accept and review all comments received. These meetings will be held as follows:

Cowlitz Expo Center, 1900 7th Avenue, Longview, Washington 98632 on Tuesday, September 17, 2013, from 5:00 p.m. to 8:00 p.m.

Spokane Convention Center, 334 West Spokane Falls Boulevard, Spokane, Washington 99201 on Wednesday, September 25, 2013, from 5:00 p.m. to 8:00 p.m.

The Trac Center, 6600 Burden Boulevard, Pasco, Washington 99301 on Tuesday, October 1, 2013, from 5:00 p.m. to 8:00 p.m.

Clark County Fairgrounds, 17402 Northeast Delfel Road, Ridgefield, Washington 98642 on Wednesday, October 9, 2013, from 5:00 p.m. to 8:00 p.m.

Tacoma Convention Center, 1500 Broadway, Tacoma, Washington 98402 on Thursday, October 17, 2013, from 5:00 p.m. to 8:00 p.m.

In addition, an “online scoping meeting” will be continuously hosted on the EIS Internet Web site at www.millenniumbulkeiswa.gov for the duration of the scoping period.

b. Potentially significant issues to be analyzed in the EIS include, but are not limited to direct, indirect, and cumulative effects of the project-specific activities proposed within the NEPA scope of analysis as described above on navigation (e.g., vessel traffic and navigational safety); aquatic habitats; aquatic species, including Endangered Species Act-listed species and Washington State species of concern; Tribal treaty rights; wetland and riparian habitat; wildlife; vehicle traffic; cultural, historic, and archeological resources; air and water quality; noise; recreation; land use; and aesthetics.

c. The Corps will consult with the Washington State Historic Preservation Officer and applicable Tribes to comply with the National Historic Preservation Act; the U.S. Fish and Wildlife Service and National Marine Fisheries Service to comply with the Endangered Species Act; the National Marine Fisheries Service to comply with the Essential Fish Habitat provisions of the Magnuson-Stevens Fishery Conservation and Management Act; and applicable Tribes to comply with reserved treaty fishing rights.

d. Preparation of the draft EIS will begin after the close of the scoping period. The draft EIS is currently scheduled to be available for public review and comment by June 2015.

e. A 90-day public review period will be provided for interested parties to review and comment on the draft EIS. Interested parties are encouraged to contact the Corps if they wish to be notified when the draft EIS is issued.

f. All comments received will become part of the administrative record for this project and subject to public release to third-parties, including any personally identifiable information such as name, phone number, and address, included in the comment.

Dated: August 29, 2013.
Bruce A. Estok,
Colonel, Corps of Engineers, District Engineer.

[FR Doc. 2013-21780 Filed 9-5-13; 8:45 am]

BILLING CODE 3720-58-P